DEPARTMENT OF COMMERCE

Census Bureau

Agency Information Collection Activities; Submission to the Office of Management and Budget (OMB) for Review and Approval; Comment Request; 2020 Census Count Question Resolution Operation

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 4, 2020 during a 60-day comment period. This notice allows for an additional 30 days for public comments.

Agency: U.S. Census Bureau, Commerce.

Title: 2020 Census Count Question Resolution Operation.

OMB Control Number: 0607-0879.

Form Number(s): None.

Type of Request: Regular submission, Request for a Reinstatement, with Change, of a Previously Approved Collection.

Number of Respondents: 1,500.

Average Hours per Response: 5.2 (based on 40 records per case).

Burden Hours: 7,800.

Needs and Uses:

Introduction

The 2020 Census Count Question Resolution Operation (CQR) provides a mechanism for tribal, state, and local governmental units in the United States and Puerto Rico, or their designated representatives, to request that the Census Bureau review their boundaries and/or housing counts by block to correct any in-scope error(s) affecting the inclusion and/or geographic allocation of housing and population. The term “housing” refers to individual housing units and group quarters. Please note, the population counts for a census block or other geographic units below the state level may seem inaccurate due to disclosure avoidance measures the Census Bureau applies to the published data. Population counts at the block level have the most “noise” of any geographic level due to disclosure avoidance and differential privacy to protect against data disclosure. Additional information on both disclosure avoidance and differential privacy is available at the following URL: www.census.gov/programs-surveys/decennial-census/decade/2020/planning-management/process/disclosure-avoidance.html.

The Census Bureau will accept 2020 Census CQR cases from tribal, state, and local governmental units from January 3, 2022 through June 30, 2023. The eligible governmental units and geographies are the same as in previous decades for the 2020 Census CQR. The Census Bureau will conduct CQR case research by examining the census records for the 2020 tabulation block(s) identified in the CQR case. All boundaries in the published 2020 Census results are current as of January 1, 2020, and all housing and population counts are current as of April 1, 2020; therefore, any changes to boundaries or housing counts that occurred past those dates are out of scope. No new Census information products will be created by the 2020 Census CQR and no revisions will be made to 2020 Census information products, such as the apportionment counts delivered to the President for apportionment or the 2020 Census Public Law 94-171 Redistricting Data Files and Geographic Products. Federal law requires data collection for the census to end, so the Census Bureau cannot continue collecting information for the census through the Count Question Resolution operation (CQR). CQR can correct only errors that occurred during the processing of information collected during the 2020 enumeration.

Once a resolution is determined for each CQR case, the Census Bureau will respond to the governmental unit in writing with an official determination letter, even if the case is determined to be out of scope or that no corrections are warranted. However, if research determines that changes are appropriate, the determination letter will be accompanied by certified housing and population count corrections, which governmental units can use for any purpose requiring their official Census counts. The Census Bureau will incorporate all CQR revisions into the intercensal population estimates and American Community Survey estimates starting in 2022 and will post the new counts on the CQR website. The Census Bureau will attempt to respond to each inquiry within 90 days of receipt and complete all case research and resolution by no later than September 30, 2023.

Eligible Participants

The Census Bureau will only accept cases from the eligible participants listed below or their designee. Details on how to designate someone else to submit on a government's behalf will be explained further in the guides that will be posted on the CQR website. The Census Bureau will not accept cases from any other type of statistical or legally defined areas, or any other individual, group, or organization not included in this list.

1. Tribal areas, including federally recognized American Indian tribes with reservation and/or off-reservation trust lands, Alaska Native Regional Corporations, and Alaska Native villages.

○ A review of statistically defined boundaries (e.g., boundaries of the tribal designated statistical areas, Oklahoma tribal statistical areas, and Oklahoma tribal statistical area tribal subdivisions) is out of scope for 2020 Census CQR.

○ A review of the statistically defined Alaska Native village statistical area boundaries is out of scope for 2020 Census CQR.

2. States and equivalent entities (e.g., District of Columbia and Puerto Rico).

○ States and equivalent entities can ask the Census Bureau to review the boundaries for all legally functioning governments within their jurisdiction.

Hawaii can ask the Census Bureau to review the boundaries for the Hawaiian home lands and census designated places within their state.

Puerto Rico can ask the Census Bureau to review the boundaries for their sub-minor civil divisions (e.g., subbarrios).

A review of the statistically defined boundaries, such as those for state designated tribal statistical areas is out of scope for 2020 Census CQR.

3. Counties and equivalent entities (e.g., parishes in Louisiana, boroughs in Alaska, municipios in Puerto Rico).

○ County and equivalent entities can ask the Census Bureau to review the boundaries for all legally functioning governments within their jurisdiction.

Counties in Hawaii can ask the Census Bureau to review the boundaries for the census designated places within their jurisdiction because they are the equivalent of an incorporated place.

Municipios in Puerto Rico can ask the Census Bureau to review boundaries for their sub-minor civil divisions (e.g., subbarrios).

4. Minor civil divisions (e.g., townships).

○ Minor civil divisions can ask the Census Bureau to review the boundaries for all legally functioning governments within their jurisdiction.

5. Consolidated cities.

6. Incorporated places (e.g., villages, towns, cities).

○ Because census designated places in Hawaii are the equivalent of an incorporated place, they can ask the Census Bureau to review the boundary and/or housing counts for their census designated place.

CQR Case Types

The 2020 Census CQR includes boundary and/or housing count cases. Boundary cases request a Census Bureau review of legal boundaries in effect as of January 1, 2020, and the associated addresses affected by the boundaries identified in the inquiry. Housing count cases request a Census Bureau review of the geographic location of housing within 2020 tabulation blocks specified in the eligible governmental unit's inquiry, as well as a review of the census records to determine whether census processing error(s) excluded valid housing and associated population data.

Boundary cases must include a map (e.g., digital or hard copy) indicating the portion of the boundary that the Census Bureau potentially depicted incorrectly, as well as depicting the corrected boundary as of January 1, 2020; a list of residential addresses in the 2020 tabulation blocks affected by the incorrect boundary, indicating their correct coordinates or location in relationship to the boundary; and supporting documentation which may include legal documentation for certain circumstances as described in the CQR Participant Guides. The Census Bureau provides partnership shapefiles and 2020 Census Block Map Adobe .pdf files on the CQR website to support governmental units creating boundary cases.

Housing count cases must include a list of contested 2020 tabulation blocks with their current housing counts, and the corrected housing counts for both housing units and group quarters as of April 1, 2020, as well as supporting documentation as described in the CQR Participant Guides.

CQR Case Submission

To determine whether submitting a CQR case is necessary, governmental units need to review their boundaries and housing counts in the published 2020 Census data. The Census Bureau recommends a review of the Public Law 94-171 data tables to review their counts of total housing units (Table H1), total population (Table P1), and population of group quarters by type of group quarters (Table P5). These data were made available on September 16, 2021 on data.census.gov.

In addition to the redistricting data tables mentioned, governmental units can also use the Address Count Listing Files Viewer tool available from the CQR website to identify the specific 2020 tabulation blocks where governmental units suspect boundary or housing count errors. The tool permits users to navigate to their governmental unit through a web map interface, select individual census blocks, and display the associated counts of housing units and group quarters. If an error exists with their legal boundary(s) or housing counts, governmental units may prepare and submit a CQR case.

To prepare a CQR case, the Census Bureau encourages the use of digital materials from the CQR website. Governmental units that are unable to use digital materials to prepare their case may download and print paper copies of the digital materials to prepare their case on paper. The Census Bureau also provides the Geographic Update Partnership Software (GUPS) for use in preparing a CQR case. The GUPS is a self-contained, customized geographic information system (GIS) software application available free for download from the CQR website.

To submit any CQR case, the Census Bureau encourages governmental units to use the Secure Web Incoming Module (SWIM), available at respond.census.gov/swim. Governmental units submitting a CQR case on paper must ship their submission following specific guidance presented in the participant guides to the Census Bureau at the following address:

U.S. Census Bureau, National Processing Center, ATTN: CQR Geography Bldg. 63E, 1201 E 10th St., Jeffersonville, IN 47132

CQR Case Disposition

Boundary and/or housing count cases can result in certified housing and/or population count corrections if during CQR case research, Census staff discover evidence showing a boundary, geocoding, and/or coverage error in the published 2020 Census results.

The Census Bureau will only make CQR boundary corrections if the boundary error identified affects the location of housing in the published 2020 Census results. Boundary cases that do not affect the location of housing in the published results, or boundary changes that occurred after January 1, 2020, will be resolved through the Boundary and Annexation Survey as they are out of scope for CQR.

Census staff can resolve two kinds of housing count errors: Geocoding and coverage. Geocoding errors involve housing that was enumerated in the 2020 Census and is present in the published 2020 Census results in the incorrect 2020 tabulation block. The Census Bureau will correct geocoding errors discovered in the published results during CQR research by moving the address(es) into the appropriate 2020 tabulation block and will provide certified housing and/or population count corrections to any governmental unit affected by the case.

Coverage errors involve housing (including group quarters) that was or should have been enumerated in the 2020 Census, but which were excluded from the published 2020 Census results due to a processing error. Coverage errors discovered in the published results can be resolved by adding or reinstating the address(es) in the appropriate 2020 tabulation block. The Census Bureau will provide certified housing and/or population count corrections as appropriate.

Affected Public: Tribal, State, and Local governmental units in the United States and Puerto Rico.

Frequency: Every ten years following the publication of data from the Decennial Census.

Respondent's Obligation: Voluntary.

Legal Authority: Title 13 U.S.C. Section 141.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0879.

Sheleen Dumas,
Department PRA Clearance Officer, Office of the Chief Information Officer, Commerce Department.

[FR Doc. 2021-23567 Filed 10-28-21; 8:45 am]

BILLING CODE 3510-07-P